DEPARTMENT OF COMMERCE

Foreign-Trade Zones Board

[Order No. 1395]

Expansion of Foreign-Trade Zone 70; Detroit, MI, Area

Pursuant to its authority under the Foreign-Trade Zones Act of June 18, 1934, as amended (19 U.S.C. 81a-81u), the Foreign-Trade Zones Board (the Board) adopts the following Order:

Whereas, the Greater Detroit Foreign-Trade Zone, Inc., grantee of FTZ 70, submitted an application to the Board for authority to expand FTZ 70 to include a site (52 acres, Site 18) near Temperance (Monroe County), Michigan (FTZ Docket 21-2004, filed 05/25/04).

Whereas, notice inviting public comment has been given in the Federal Register (69 FR 30872, 6/01/04) and the application has been processed pursuant to the FTZ Act and the Board's regulations; and,

Whereas, the Board adopts the findings and recommendations of the examiner's report, and finds that the requirements of the FTZ Act and the Board's regulations would be satisfied, and that approval of the application would be in the public interest if approval were subject to specific conditions and restrictions;

Now, therefore, the Board hereby orders:

The application to expand FTZ 70 is approved, subject to the FTZ Act and the Board's regulations, including Section 400.28 and further subject to the condition and restriction listed below:

1. The approval for FTZ 70—Site 18 is for an initial period of five years (to June 1, 2010) subject to extension upon review.

2. Activation at the general-purpose zone project overall is subject to the Board's standard 2,000-acre limit.

Signed at Washington, DC, this 23rd day of May 2005.
Joseph A. Spetrini,
Acting Assistant Secretary of Commerce for Import Administration, Alternate Chairman, Foreign-Trade Zones Board.
Attest:
Dennis Puccinelli,
Executive Secretary.

[FR Doc. 05-11126 Filed 6-2-05; 8:45 am]

BILLING CODE 3510-DS-P